DEPARTMENT OF THE TREASURY

Fiscal Service

Financial Management Service Performance Review Board; Senior Executive Service

AGENCY: Financial Management Service; Fiscal Service, Treasury.

ACTION: Notice.

SUMMARY: This notice announces the appointment of members to the Financial Management Service (FMS) Performance Review Board (PRB).

DATES: This notice is effective on August 10, 2004.

FOR FURTHER INFORMATION CONTACT: Kenneth R. Papaj, Deputy Commissioner, Financial Management Service, 401 14th Street, SW., Washington, DC, 20227; telephone: (202) 874-7000.

SUPPLEMENTARY INFORMATION: Pursuant to 5 U.S.C. § 4314(c)(4), this notice is given of the appointment of individuals to serve as members of the FMS PRB. This Board reviews the performance appraisals of career senior executives below the Assistant Commissioner level and makes recommendations regarding ratings, bonuses, and other personnel actions. Four voting members constitute a quorum. The names and titles of the FMS PRB members are set forth herein:

Primary Members: Kenneth R. Papaj, Deputy Commissioner; Nancy C. Fleetwood, Assistant Commissioner, Information Resources; Gary Grippo, Assistant Commissioner, Federal Finance; J. Martin Mills, Assistant Commissioner, Debt Management Services; Judy R. Tillman, Assistant Commissioner, Regional Operations.

Alternate Members: Scott H. Johnson, Assistant Commissioner, Management (Chief Financial Officer); Kerry Lanham, Assistant Commissioner, Agency Services; Wanda J. Rogers, Assistant Commissioner, Financial Operations; D. James Sturgill, Assistant Commissioner, Governmentwide Accounting.

Dated: August 4, 2004.
Kenneth R. Papaj,
Deputy Commissioner.

[FR Doc. 04-18247 Filed 8-9-04; 8:45 am]

BILLING CODE 4810-35-M